DEPARTMENT OF AGRICULTURE

Animal and Plant Health Inspection Service

[Docket No. APHIS-2007-0090]

Notice of Request for Extension of Approval of an Information Collection; Brucellosis in Sheep, Goats, and Horses; Payment of Indemnity

AGENCY: Animal and Plant Health Inspection Service, USDA.

ACTION: Extension of approval of an information collection; comment request.

SUMMARY: In accordance with the Paperwork Reduction Act of 1995, this notice announces the Animal and Plant Health Inspection Service's intention to request an extension of approval of an information collection associated with regulations for payment of indemnity for sheep, goats, and horses destroyed because of brucellosis.

DATES: We will consider all comments that we receive on or before October 9, 2007.

ADDRESSES: You may submit comments by either of the following methods:

• Federal eRulemaking Portal: Go to http://www.regulations.gov, select “Animal and Plant Health Inspection Service” from the agency drop-down menu, then click “Submit.” In the Docket ID column, select APHIS-2007-0090 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2007-0090, Regulatory Analysis and Development, PPD, APHIS, Station 3A-03.8, 4700 River Road, Unit 118, Riverdale, MD 20737-1238. Please state that your comment refers to Docket No. APHIS-2007-0090.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on an information collection associated with regulations for the payment of indemnity for sheep, goats, and horses destroyed because of brucellosis, contact Dr. Debra Donch, Brucellosis Program Manager, Ruminant Health Programs, NCAHP, VS, APHIS, 4700 River Road, Unit 43, Riverdale, MD 20737; (301) 734-5952. For copies of more detailed information on the information collection, contact Mrs. Celeste Sickles, APHIS' Information Collection Coordinator, at (301) 734-7477.

SUPPLEMENTARY INFORMATION: Title: Brucellosis in Sheep, Goats, and Horses; Payment of Indemnity.

OMB Number: 0579-0185.

Type of Request: Extension of approval of an information collection.

Abstract: The Animal and Plant Health Inspection Service (APHIS) of the U.S. Department of Agriculture regulates the importation and interstate movement of animals and animal products, and conducts various other activities to protect the health of our Nation's livestock and poultry.

Brucellosis is a contagious disease caused by bacteria of the genus Brucella. It affects both animals and humans. In its principal animal hosts, it causes loss of young through spontaneous abortion or birth of weak offspring, reduced milk production, and infertility. There is no economically feasible treatment for brucellosis in livestock. Brucellosis is mainly a disease of cattle, bison, and swine. Brucella abortus affects mainly bovines; B. suis affects mainly swine. Goats, sheep, and horses are also susceptible to B. abortus. In horses, the disease is known as fistulous withers. A third strain of Brucella, B. melitensis, affects mainly goats and sheep.

The regulations in 9 CFR part 51 include an indemnity program for sheep, goats, and horses that must be destroyed because of brucellosis. This indemnity program, which is similar to our indemnity program for cattle and bison, is voluntary and was designed to give producers an incentive to cooperate and assist our ongoing program to eradicate brucellosis in the United States.

The indemnity program for the voluntary depopulation of herds of goats, flocks of sheep, and mixed herds of goats and sheep affected with brucellosis, and individual horses infected with brucellosis requires the use of a number of information collection activities, including the completion of indemnity claims, test records, and permits; the use of official seals and animal identification; and the submission of proof of destruction and requests for the extension of certain program-related deadlines.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.25 hours per response.

Respondents: Sheep, goat, and horse owners who may be eligible to participate in a brucellosis indemnity program; and State and accredited veterinarians.

Estimated annual number of respondents: 3.

Estimated annual number of responses per respondent: 2.666666666.

Estimated annual number of responses: 8.

Estimated total annual burden on respondents: 2 hours. (Due to averaging, the total annual burden hours may not equal the product of the annual number of responses multiplied by the reporting burden per response.) All responses to this notice will be summarized and included in the request for OMB approval. All comments will also become a matter of public record.

Done in Washington, DC, this 2nd day of August 2007.
W. Ron DeHaven,
Administrator, Animal and Plant Health Inspection Service.

[FR Doc. E7-15415 Filed 8-7-07; 8:45 am]

BILLING CODE 3410-34-P